DEPARTMENT OF COMMERCE

International Trade Administration

[C-570-963]

Potassium Phosphate Salts From the People's Republic of China: Final Results of Expedited First Sunset Review of the Countervailing Duty Order

AGENCY: Enforcement and Compliance, International Trade Administration, Department of Commerce.

SUMMARY: The Department of Commerce (the Department) finds that revocation of the countervailing duty (CVD) order on potassium phosphate salts (Salts) from the People's Republic of China (PRC) would be likely to lead to continuation or recurrence of a countervailable subsidy at the levels indicated in the “Final Results of Sunset Review” section of this notice.

DATES: Effective Date: October 5, 2015.

FOR FURTHER INFORMATION CONTACT: Jacqueline Arrowsmith, Office VII, AD/CVD Operations, Enforcement and Compliance, International Trade Administration, U.S. Department of Commerce, 14th Street and Constitution Avenue NW., Washington, DC 20230; telephone (202) 482-5255.

SUPPLEMENTARY INFORMATION:

Background

On July 22, 2010, the Department published the CVD order on Salts from the PRC.¹ On June 1, 2015, the Department published a notice of initiation of the first sunset review of the CVD Order on Salts from the PRC pursuant to section 751(c) of the Tariff Act of 1930, as amended (the Act).² On June 11, 2015, ICL Performance Products, LP and Prayon, Inc. (collectively, Petitioners) filed a notice of intent to participate in the review.³ Petitioners claimed interested party status under section 771(9)(C) of the Act, as domestic producers of the domestic like product.⁴

¹ See Certain Potassium Phosphate Salts from the People's Republic of China: Amended Countervailing Duty Determination and Countervailing Duty Order, 75 FR 42682 (July 22, 2010) (CVD Order).

² See Initiation of Five-Year “Sunset” Reviews, 80 FR 31012 (June 1, 2015).

³ See Letter to the Department, “Potassium Phosphate Salts from the People's Republic of China: Notice of Intent to Participate and APO application,” dated June 11, 2015.

⁴ On July 1, 2015, ICL Performance Products, LP and Prayon, Inc. both claimed to be domestic producers of phosphate salts. See Letter to the Department, “Potassium Phosphate Salts from the People's Republic of China: Substantive Response to Notice of Initiation of Five Year (First Sunset) Review of the Antidumping Duty and Countervailing Duty Orders,” dated July 1, 2015, (Petitioners' Substantive Response).

The Department received an adequate substantive response from the domestic industry within the 30-day deadline specified in 19 CFR 351.218(d)(3)(i). The Department did not receive a response from the Government of the People's Republic of China (GOC) or any respondent interested party to the proceeding. As a result, pursuant to section 751(c)(3)(B) of the Act and 19 CFR 351.218(e)(l)(ii)(B)(2) and (C)(2), the Department conducted an expedited sunset review of this CVD Order on Salts.

Scope of the Order

The merchandise subject to this CVD Order is Salts. Imports of merchandise included within the scope of this order are currently classifiable under subheadings 2835.24.0000 and 2835.39.1000 of the Harmonized Tariff Schedule of the United States. The Issues and Decision Memorandum, which is hereby adopted by this notice, provides a full description of the scope of the order.⁵

⁵ See Department Memorandum, “Issues and Decision Memorandum for the Final Results of the Expedited First Sunset Review of the Countervailing Duty Order on Potassium Phosphate Salts from the People's Republic of China,” dated concurrently with, and hereby adopted by, this notice.

The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed at http://enforcement.trade.gov/frn/. The signed Issues and Decision Memorandum and the electronic version of the Issues and Decision Memorandum are identical in content.

Analysis of Comments Received

All issues raised in this review are addressed in the Issues and Decision Memorandum. The issues discussed include the likelihood of continuation or recurrence of a countervailable subsidy and the net countervailable subsidy rate likely to prevail if the CVD Order were revoked.

Final Results of Sunset Review

Pursuant to sections 752(b)(1) and (3) of the Act, we determine that revocation of the CVD Order on Salts from the PRC would be likely to lead to continuation or recurrence of a net countervailable subsidy at the rates listed below:

Manufacturers/ exporters/ producers | Net countervailable subsidy (percent)
Lianyungang Mupro Import Export Co Ltd | 109.11
Mianyang Aostar Phosphate Chemical Industry Co. Ltd | 109.11
Shifang Anda Chemicals Co. Ltd | 109.11
All Others | 109.11

Notification Regarding Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing these final results and this notice in accordance with sections 751(c), 752(b), and 777(i)(1) of the Act.

Dated: September 28, 2015.
Paul Piquado,
Assistant Secretary for Enforcement and Compliance.

[FR Doc. 2015-25303 Filed 10-2-15; 8:45 am]

BILLING CODE 3510-DS-P